DEPARTMENT OF TRANSPORTATION

Federal Aviation Administration

Tenth RTCA SC-229 406 MHz ELT Plenary Joint with WG-98

AGENCY: Federal Aviation Administration (FAA), U.S. Department of Transportation (DOT).

ACTION: Tenth RTCA SC-229 406 MHz ELT Plenary Joint with WG-98.

SUMMARY: The FAA is issuing this notice to advise the public of a meeting of Tenth RTCA SC-229 406 MHz ELT Plenary Joint with WG-98.

DATES: The meeting will be held March 14-17, 2017 09:00 a.m.-05:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Tenth RTCA SC-229 406 MHz ELT Plenary Joint with WG-98. The agenda will include the following:

Tuesday, March 13, 2017—9:00 a.m.-5:00 p.m.

1. Welcome/Introductions/Administrative Remarks

2. Agenda overview and approval

3. Fort Lauderdale meeting review and approval

4. Review Action Items from Fort Lauderdale meeting

5. “Phasing in” RTCA/DO-204B, EUROCAE/ED-62B—Timeline and ToR

6. EASA presentation

• EASA approval process

• EU rules on aircraft tracking and location of aircraft in distress

7. Briefing of: ICAO GADSS-AG, COSPAS-SARSAT, activities

8. Other Industry coordination and presentations

9. Working group of the whole meeting (rest of the day)

Wednesday, March 14, 2017—9:00 a.m.-5:00 p.m.

Working group of the whole meeting

Thursday, March 15, 2017—9:00 a.m.-5:00 p.m.

Working group of the whole meeting

Friday, March 17, 2017—9:00 a.m.-4:00 p.m.

1. Plenary meeting in the morning

2. WGs' reports

2. Action item review

3. Future meeting plans and dates

4. Industry coordination and presentations (if any)

5. Other business

6. Adjourn

Attendance is open to the interested public for plenary discussion, but limited to space availability. Registration for this meeting is required. Working group of the whole items are closed to the public. With the approval of the chairman, members of the public may present oral statements at the plenary meeting. Persons wishing to present statements or obtain information should contact the person listed in the FOR FURTHER INFORMATION CONTACT section. Members of the public may present a written statement to the committee at any time. Issued in Washington, DC on January 4, 2017.

Mohannad Dawoud,
Management & Program Analyst, Partnership Contracts Branch, ANG-A17 NextGen, Procurement Services Division, Federal Aviation Administration.

[FR Doc. 2017-00117 Filed 1-6-17; 8:45 am]

BILLING CODE 4910-13-P